DEPARTMENT OF COMMERCE

Foreign-Trade Zones Board

[Docket 40-2001]

Foreign-Trade Zone 199, Texas City, TX: Expansion of Manufacturing Authority; Subzone 199C, Valero Refining Company—Texas, Texas City, TX

An application has been submitted to the Foreign-Trade Zones Board (the Board) by the Texas City Foreign-Trade Zone Corporation, grantee of FTZ 199, requesting authority on behalf of the Valero Refining Company—Texas (Valero), to expand the scope of manufacturing activity conducted under zone procedures within Subzone 199C at the Valero oil refinery complex in Texas City, Texas. The application was submitted pursuant to the provisions of the Foreign-Trade Zones Act, as amended (19 U.S.C. 81a-81u), and the regulations of the Board (15 CFR part 400). It was formally filed on September 19, 2001.

Subzone 199C (310 acres, 415 employees) was approved by the Board in 1996 and is located at 1301 Loop 197 South, Texas City, Texas. Authority was granted for the manufacture of fuel products and certain petrochemical feedstocks and refinery by-products (Board Order 863, 62 FR 1316, 1/9/97).

The refinery (160,000 barrels per day) is used to produce fuels and petrochemical feedstocks. The expansion request involves several modified and upgraded crude distillation units. Valero has been expanding and modifying three crude units to allow for the processing of high sulfur crude within the existing Site 1. The new facilities will increase the overall capacity of the refinery to 223,000 BPD. The feedstocks used and product slate will remain unchanged. The crude oil will be sourced from abroad.

Zone procedures would exempt the new refinery facilities from Customs duty payments on the foreign products used in its exports. On domestic sales, the company would be able to choose the Customs duty rates for certain petrochemical feedstocks (duty-free) by admitting foreign crude oil in non-privileged foreign status. The application indicates that the additional savings from zone procedures would help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is November 26, 2001. Rebuttal comments in response to material submitted during the foregoing period may be submitted during the subsequent 15-day period to December 11, 2001.

A copy of the application and accompanying exhibits will be available for public inspection at the Office of the Foreign-Trade Zones Board's Executive Secretary at the first address listed above, and at the U.S. Department of Commerce Export Assistance Center, 500 Dallas, Suite 1160, Houston, TX 77002.

Dated: September 19, 2001.
Dennis Puccinelli,
Executive Secretary.

[FR Doc. 01-24086 Filed 9-25-01; 8:45 am]

BILLING CODE 3510-DS-P